DEPARTMENT OF DEFENSE

Department of the Army, Corps of Engineers

[Permit No. NAE-2021-01301]

Notice of Final Federal Agency Action on the Authorization for the New England Wind Farm and New England Wind Project

AGENCY: Department of the Army, U.S. Army Corps of Engineers, DoD.

ACTION: Notice of limitation on claims for judicial review of actions by the U.S. Army Corps of Engineers (USACE).

SUMMARY: USACE announces final agency action on the USACE authorization for the proposed construction and maintenance of the New England Wind Farm and New England Wind Project Phase I (New England Wind Phase I Project) offshore Massachusetts. USACE has issued a permit authorizing the construction and maintenance of the New England Wind Phase I Project under section 10 of the Rivers and Harbors Act of 1899 (RHA) and section 404 of the Clean Water Act (CWA). The New England Wind Phase I Project is a “covered project” under title 41 of the Fixing America's Surface Transportation Act.

DATES: A claim seeking judicial review of the USACE authorization of construction and maintenance of the New England Wind Phase I Project will be barred unless the claim is filed not later than two years after this notice's publication date. If the Federal law that allows for judicial review of the USACE authorization specifies a shorter time period for filing such a claim, then that shorter time period will apply.

FOR FURTHER INFORMATION CONTACT: Christine Jacek, 696 Virginia Road, Concord, Massachusetts 01742, 978-318-8026, cenae-r-offshorewind@usace.army.mil.

SUPPLEMENTARY INFORMATION: Notice is hereby given that USACE has taken final agency action on its authorization for the proposed New England Wind Phase I Project by issuing a permit authorizing construction and maintenance of the Project under section 10 of the RHA and section 404 of the CWA. A majority of the work will occur in the Atlantic Ocean within the Bureau of Ocean Energy Management (BOEM) Renewable Energy Lease Area OCS-A 0534, which is approximately eighteen (18) nautical miles (NM) south of Martha's Vineyard, Massachusetts. Export cable work would occur within a forty two (42) NM long offshore export cable corridor extending from the lease area, through the Muskeget Channel and Nantucket Sound with cable landfall at Craigville Beach, Barnstable, Massachusetts. The export cables would also cross the Centerville River in Barnstable, Massachusetts.

The work authorized under the USACE permit includes the construction and maintenance of a commercial-scale offshore wind facility within a 63,012 acre BOEM Renewable Energy Lease Area OCS-A 0534. The work includes: (1) the installation of up to sixty two (62) wind turbine generators (WTGs) and up to two (2) electrical service platforms (ESPs) with up to seventy four (74) acres associated scour protection for the structures, (2) the installation of approximately 133 NM of inter-array cables connecting the WTGs and inter-link cable connecting the ESPs to the WTGs with eleven (11) acres of associated scour protection for the cables, (3) the installation up to two (2) export transmission cables within a single forty two (42) NM offshore export cable corridor (OECC) with approximately 2.5 acres of cable scour protection on the outer continental shelf (OCS) and 21.5 acres of subtidal fills associated with cable scour protection and sand wave relocation activities. Each export transmission cable will have a 12 foot (ft.) wide disturbance zone associated with installation and an estimated disturbance area involving up to 75 acres of subtidal waters., (4) the refilling of two horizontal directional drilling (HDD) exit pits to be excavated for the HDD work associated with the shore to landfall work. Each HDD exit pit will be approximately 10,000 square feet (sq. ft.) in size with approximately 20,000 sq. ft. of total impacts associated with the discharge of excavated material back into the HDD pits, and (5) HDD installation of the transmission cables under the Centerville River.

The USACE's decision to issue a permit, and the laws under which the action was taken, are described in the New England Wind Project Final Environmental Impact Statement (FEIS) published in March 2024, in the joint Record of Decision (ROD) issued on April 1, 2024, and in other project records. The FEIS, ROD, and other documents can be viewed and downloaded from the BOEM project website at https://www.boem.gov/renewable-energy/state-activities/new-england-wind-1-and-2. The USACE permit can be viewed and downloaded from the USACE website at https://www.nae.usace.army.mil/Missions/Regulatory/permits-Issued/. By this notice, USACE is advising the public of final agency action subject to 42 U.S.C. 4370m-6(a)(1)(A).

Authority: 42 U.S.C. 4370m-6(a)(1)(A).

John P. Lloyd,
Brigadier General, USA, Commanding.

[FR Doc. 2024-20642 Filed 9-11-24; 8:45 am]

BILLING CODE 3720-58-P